DEPARTMENT OF THE INTERIOR

National Indian Gaming Commission

Draft Environmental Impact Statement and Draft Conformity Determination for the Proposed Federated Indians of the Graton Rancheria Casino and Hotel Project, Sonoma, CA

AGENCY: National Indian Gaming Commission, Interior.

ACTION: Notice of comment period extension.

SUMMARY: This notice extends the comment period for the Federated Indians of the Graton Rancheria's Draft Environmental Impact Statement (DEIS) for a proposed casino and hotel project/action to be located in Sonoma, California. Notice of the availability of the DEIS and Draft Conformity Determination were published in the Federal Register on March 9, 2007 (72 FR 10790).

DATES: The comment period for the DEIS is extended from May 14, 2007, until June 4, 2007.

FOR FURTHER INFORMATION CONTACT: Brad Mehaffy, NEPA Compliance Officer, National Indian Gaming Commission at (202) 632-7003 (not a toll-free number).

Dated: May 9, 2007.
Philip N. Hogen,
Chairman.

[FR Doc. 07-2399 Filed 5-15-07; 8:45 am]

BILLING CODE 7565-07-M